DEPARTMENT OF TRANSPORTATION

Federal Aviation Administration

Notice of Intent To Release Certain Properties From All Terms, Conditions, Reservations and Restrictions of a Quitclaim Deed Agreement Between City of Palatka and the Federal Aviation Administration for the Palatka Municipal—Lt. Kay Larkin Field, Palatka, FL

AGENCY: Federal Aviation Administration (FAA), DOT.

ACTION: Request for public comment.

SUMMARY: The FAA hereby provides notice of intent to release 14.6 acres at the Palatka Municipal—Lt. Kay Larkin Field, Palatka, FL from the conditions, reservations, and restrictions as contained in a Quitclaim Deed agreement between the FAA and the City of Palatka, dated February 24, 1947. The release of property will allow the City of Palatka to use the property for other than aeronautical purposes. The property is located off of Reid Street at the Palatka Municipal—Lt. Kay Larkin Field in Putnam County. The parcel is currently designated as surplus property. The property will be released of its federal obligations for the purpose of selling the property at fair market value for construction of municipal development. The fair market value of this parcel has been determined to be $169,000. Documents reflecting the Sponsor's request are available, by appointment only, for inspection at the Palatka Municipal—Lt. Kay Larkin Field and the FAA Airports District Office.

DATES: Comments are due on or before July 17, 2023.

ADDRESSES: Documents are available for review at the Palatka Municipal—Lt. Kay Larkin Field, 4015 Reid Street, Highway 100, Palatka, FL, 32177-2529 and the FAA Airports District Office, 8427 SouthPark Circle, Suite 524, Orlando, FL 32819-9058. Written comments on the Sponsor's request must be delivered or mailed to: Stephen Wilson, Program Manager, Orlando Airports District Office, 8427 SouthPark Circle, Suite 524, Orlando, FL 32819-9058.

FOR FURTHER INFORMATION CONTACT: Stephen Wilson (407) 487-7229, Program Manager, Orlando Airports District Office, 8427 SouthPark Circle, Suite 524, Orlando, FL 32819.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

Bartholomew Vernace,
Manager, Orlando Airports District Office, Southern Region.

[FR Doc. 2023-12876 Filed 6-15-23; 8:45 am]

BILLING CODE 4910-13-P